DEPARTMENT OF AGRICULTURE

Forest Service

Okanogan-Wenatchee National Forest, Okanogan County, WA; Bannon, Aeneas, Revis, and Tunk Grazing Allotments Environmental Impact Statement

AGENCY: Forest Service, USDA.

ACTION: Notice of Intent to prepare an Environmental Impact Statement.

SUMMARY: The USDA Forest Service will prepare an Environmental Impact Statement (EIS) to disclose the environmental effects of issuing Term Grazing Permits to continue authorizing cattle grazing on all or portions of four existing grazing allotments: Bannon, Aeneas, Revis, and Tunk; herein after referred to as BART. The issuance of Term Grazing Permits would continue to authorize grazing at current permitted cattle numbers and seasons of use.

DATES: Comments concerning the scope of the analysis should be received by January 7, 2013. The draft environmental impact statement is expected to be filed with the Environmental Protection Agency and made available for public review in January 2013. The final environmental impact statement is expected to be available for review in February 2013.

ADDRESSES: Submit written comments and suggestions concerning the scope of the analysis to Christina Bauman, Project Lead, Tonasket District, 1 West Winesap, Tonasket, Washington 98855, or phone 509-486-5112. Comments may also be sent via emailed to comments-pacificnorthwest-okanogan-tonasket@fs.fed.us with “BART Grazing Allotment Management Plan” in the subject line or via facsmile to 509-486-1922. Electronic comments must be part of an email message or as an attachment in either MS Word format (.doc or .docx), Rich Text Format (.rtf), Plain Text (.txt), or Portable Document Format (.pdf). Electronic comments containing viruses will be rejected.

FOR FURTHER INFORMATION CONTACT: Christina Bauman, Project Leader, Tonasket District, Okanogan-Wenatchee National Forest, 1 West Winesap, Tonasket, Washington 98855 or call 509-486-5112.

Individuals who use telecommunication devices for the deaf (TDD) may call the Federal Information Relay Service (FIRS) at 1-800-877-8339 between 8 a.m. and 8 p.m., Eastern Time, Monday through Friday.

SUPPLEMENTARY INFORMATION: The assessment area covers about 36,803 acres of National Forest System lands within T. 35 N., R. 28 & 29 E., and T. 36 N., R. 28 & 29 E., Willamette Meridian. Landmark locations include, Bannon Mountain, Tunk Mountain, Crawfish Lake, Aeneas, Barnell, Lost, Cole, Bench and Jungle Creeks, and Barnell Meadows.

Purpose and Need for Action

The purpose of this assessment is to authorize continued grazing in the project area consistent with Forest Plan standards and guidelines as amended providing forage for permitted livestock grazing is proposed because of the following:

• Public Law 104-19 Section 504 of the 1995 Rescissions Act, as amended, requires each National Forest to establish and adhere to a schedule for completing NEPA analysis and updating allotment management plans for all rangeland allotments on National Forest System lands.

• Where consistent with other multiple use goals and objectives, there is congressional intent to allow livestock grazing on suitable lands (Multiple Use Sustained Yield Act of 1960; Forest and Rangeland Renewable Resources Planning Act of 1974; Federal Land Policy and Management Act of 1976; and the National Forest Management Act of 1976.

• It is Forest Service policy to make forage available to qualified livestock operators from lands suitable for grazing consistent with land management plans (CFR 222.2(c); and Forest Service Manual [FSM] 2203.1).

• Recent surveys of the analysis area identified some areas that are of concern or are currently not meeting or moving toward desired conditions in a manner that is consistent with the Okanogan Forest Land and Resource Management Plan as amended. There is a need to modify range infrastructure and livestock management to move toward desired conditions for soils, vegetation and riparian resources. Livestock grazing is one of the factors that contribute to these altered resource conditions.

Proposed Action

The proposed action authorizes continued livestock grazing at current levels using a combination of range improvements and adaptive management strategies to meet or move toward meeting Forest Plan Standards and to attain resource specific desired conditions.

This alternative would implement adaptive management strategies analyzed in detail to provide management options if changes to the Proposed Action grazing strategy are needed. Monitoring would be designed for early detection of resource conditions that would trigger management changes. Triggers would be developed to identify when a specific threshold is about to be reached and cattle need to be moved. The length of time each pasture is grazed and whether additional fences would be installed would be determined by monitoring results. Adaptive management strategies include installation of water developments in the first stage and may include construction of additional fences in subsequent years if needed, where the permittee and the Forest Service agree that additional fencing would improve livestock management and riparian areas. A monitoring plan would be implemented to determine progress in attainment of Forest Plan standards and guidelines.

Range improvement proposals include:

• Removal of approximately 3 miles of fence no longer needed for livestock management and 2 non-functioning water developments.

• Relocation of 4 troughs and one corral outside of the Riparian Habitat Conservation Area (RHCA) and 1 fence approximately 1.5 miles long.

• Development of 16 springs including exclosures around spring source.

• Reconstruction of 3 existing spring developments.

• Construction of 2 new corrals.

• Construction of 1 hardened crossing on Aeneas Creek.

• Possible construction of approximately 13 miles of new pasture fence for rested areas.

More detailed information about the proposed action and maps can be accessed on the Okanogan-Wenatchee National Forest internet site http://data.ecosystem-management.org/nepaweb/nepa_project_exp.php?project=38873.

Possible Alternatives

In addition to the Proposed Action and any alternative that is developed following the scoping effort, the project interdisciplinary team will analyze the effects of:

• No Action alternative: No grazing permits would be reauthorized; cattle would be removed from all allotments within two years. There would be no change of allotment management in this two year period. All structural improvements currently in place would be allowed to deteriorate over time or be removed if funding is available.

• Accelerated improvement: This alternative would reauthorize grazing at current numbers with the implementation of a four-year strategy that includes installation of water developments in the first year, the construction of fences in the second, third year and fourth years. This alternative would rest from livestock grazing these newly created pastures with the most sensitive riparian areas.

Range improvement proposals include:

• Removal of approximately 3 miles of fence no longer needed for livestock management and 2 non-functioning water developments.

• Relocation of 4 troughs and one corral outside the RHCA and 1 fence approximately 1.5 miles long.

• Development of 16 springs including exclosures around spring source.

• Reconstruction of 3 existing spring developments.

• Construction of 2 new corrals.

• Construction of 1 hardened crossing on Aeneas Creek.

• Construction of approximately 13 miles of new pasture fence for rested areas.

Additional grazing alternatives may be considered in response to scoping issues and other resource values.

Responsible Official

The responsible official will be the Forest Supervisor, Okanogan-Wenatchee National Forest, 215 Melody Lane, Wenatchee, Washington 98801.

Nature of Decision To Be Made

An environmental analysis will evaluate site-specific issues, consider management alternatives and analyze the potential effects of the proposed action and alternatives. An environmental impact statement will provide the Responsible Official with the information needed to decide whether to adopt and implement the proposed action, or an alternative to the proposed action, or take no action to reauthorize grazing in the Bannon, Aeneas, Revis, and Tunk grazing Allotments.

This EIS will tier to the Okanogan National Forest Land and Resource Management Plan and its subsequent amendments, which provide overall guidance for land management activities on the Okanogan-Wenatchee National Forest.

Preliminary Issues

Preliminary issues identified include the effects of livestock grazing on riparian resources such as stream bank and channel instability, high stream width/depth ratio, lack of diverse riparian vegetation, high stream sedimentation, and soil compaction, displacement or erosion.

Scoping Process

This notice of intent initiates the scoping process, which guides the development of the Environmental Impact Statement. Public comments about this proposal are requested in order to assist in identifying issues, and determining how to best manage the resources, and focus the analysis.

It is important that reviewers provide their comments at such times and in such manner that they are useful to the agency's preparation of the environmental impact statement. Therefore, comments should be provided prior to the close of the comment period and should clearly articulate the reviewer's concerns and contentions.

Comments received in response to this solicitation, including names and addresses of those who comment, will become part of the public record for this proposal and will be available for public inspection. Comments submitted anonymously will be accepted and considered; however, anonymous comments will not provide the agency with the ability to provide the commenter with subsequent environmental documents.

Rebecca Lockett Heath,
Forest Supervisor, Okanogan-Wenatchee National Forest.

[FR Doc. 2012-28420 Filed 11-21-12; 8:45 am]

BILLING CODE 3410-75-P